DEPARTMENT OF THE INTERIOR

National Park Service

60-Day Notice of Intention To Request Clearance of Information Collection; Opportunity for Public Comment

AGENCY: National Park Service, Interior.

ACTION: Notice and request for comments.

SUMMARY: Under the provisions of the Paperwork Reduction Act of 1995 and 5 CFR part 1320, Reporting and Record Keeping Requirements, the National Park Service (NPS) invites public comments on an extension of a currently approved collection of information (Office of Management and Budget (OMB) #1024-0231). An agency may not conduct or sponsor, and a person is not required to respond to, a collection of information unless it displays a currently valid OMB control number.

DATES: Public comments on this Information Collection Request (ICR) will be accepted on or before June 4, 2010.

ADDRESSES: Submit comments directly to Ms. Jo A. Pendry, Chief, Commercial Services Program, National Park Service, 1201 Eye Street, NW., 11th Floor, Washington, DC 20005, or e-mail at jo_pendry@nps.gov, or via fax at 202/371-2090.

FOR FURTHER INFORMATION CONTACT: Ms. Jo A. Pendry, Chief, Commercial Services Program, National Park Service, 1201 Eye Street, NW., 11th Floor, Washington, DC 20005, or e-mail at, jo_pendry@nps.gov, or phone at 202-513-7156, or via fax at 202/371-2090. You are entitled to a copy of the entire ICR package free-of-charge.

SUPPLEMENTARY INFORMATION: OMB Control Number: 1024-0231.

Title: Concession Contract—36 CFR 51.

Current Expiration Date: 7/31/2010.

Form(s): None.

Type of Request: Extension of a currently approved collection of information.

Abstract: The information is being collected to meet the requirements of sections 403(7) and (8) of the NPS Concessions Management Improvement Act of 1998 (the Act), concerning the granting of a preferential right to renew a concession contract; section 405 of the Act, regarding the construction of capital improvements by concessioners; and section 414 of the Act, regarding recordkeeping requirements of concessioners. The information will be used by the agency in considering appeals concerning preferred offeror determinations; agency review and approval of construction projects and determinations with regard to the leasehold surrender interest value of such projects; and, when necessary, agency review of a concessioner's books and records related to its activities under a concession contract.

Affected public: Business or nonprofit organizations.

Obligation to respond: Required to obtain or retain a benefit.

Activity | Number of respondents | Number annual responses | Average completion time (hours) | Total annual burden hours
Report for 36 CFR 51.47-Concession Contracts/Appeal of Preferred Offeror Determinations | 8 | 8 | 1 | 8
Certification for 36 CFR 51.54—Large Project | 31 | 31 | 48 | 1488
Report for 36 CFR 51.55—Small Project—Construction of Capital Improvements | 89 | 89 | 20 | 1780
Totals | 128 | 128 |  | 3276

Estimated annual non hour cost burden: None.

Comments are invited on: (1) The practical utility of the information being gathered; (2) the accuracy of the burden hour estimate; (3) ways to enhance the quality, utility and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that NPS will be able to do so. All comments will become a matter of public record. All responses to this notice will be summarized and included in the request for the Office of Management and Budget approval.

Dated: March 29, 2010.
Cartina Miller,
NPS Information Collection Clearance Officer.

[FR Doc. 2010-7633 Filed 4-2-10; 8:45 am]

BILLING CODE 4312-53-P